FEDERAL COMMUNICATIONS COMMISSION

[WT Docket No. 12-354; DA 15-1208]

Wireless Telecommunications Bureau Seeks Comment on an Appropriate Method for Determining the Protected Contours for Grandfathered 3650-3700 MHz Band Licensees

AGENCY: Federal Communications Commission.

ACTION: Notice.

SUMMARY: In this document, the Wireless Telecommunications Bureau (Bureau) seeks comment on the appropriate methodology for determining the contours for protecting existing 3650-3700 MHz wireless broadband licensees from Citizens Broadband Radio Service users during a fixed transition period.

DATES: Comments are due on or before December 10, 2015. Reply comments are due on or before December 28, 2015.

ADDRESSES: All filings in response to the notice must refer to WT Docket No. 12-354. The Wireless Telecommunications Bureau strongly encourages parties to file comments electronically. Comments may be submitted electronically by the following methods:

• Federal Communications Commission's Web site: http://www.fcc.gov/cgb/ecfs/. Follow the instructions for submitting comments.

• By email. To obtain instructions for filing by email, filers should send an email to ecfs@fcc.gov, and include the following words in the body of the message, “get form.” A sample form and directions will be sent in response.

• Paper Filers: Parties who choose to file by paper must file an original and one copy of each filing. Filings can be sent by hand or messenger delivery, by commercial overnight courier, or by first-class or overnight U.S. Postal Service mail. All filings must be addressed to the Commission's Secretary, Attn: WTB/MD, Office of the Secretary, Federal Communications Commission. All hand-delivered or messenger-delivered paper filings for the Commission's Secretary must be delivered to FCC Headquarters at 445 12th Street SW., Room TW-A325, Washington, DC 20554. All hand deliveries must be held together with rubber bands or fasteners. All envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street SW., Washington, DC 20554.

People with Disabilities: Contact the FCC to request reasonable accommodations (accessible format documents, sign language interpreters, CART, etc.) by email: fcc504@fcc.gov or phone: (202) 418-0530 or TTY: (202) 418-0432.

FOR FURTHER INFORMATION CONTACT: Paul Powell, Mobility Division, Wireless Telecommunications Bureau at (202) 418-1613 or via email at Paul.Powell@fcc.gov.

SUPPLEMENTARY INFORMATION: This is a summary of public notice (DA 15-1208) released on October 23, 2015. The complete text of the public notice is available for viewing via the Commission's ECFS Web site by entering the docket number, WT Docket No. 12-354. The complete text of the public notice is also available for public inspection and copying from 8:00 a.m. to 4:30 p.m. Eastern Time (ET) Monday through Thursday or from 8:00 a.m. to 11:30 a.m. ET on Fridays in the FCC Reference Information Center, 445 12th Street SW., Room CY-B402, Washington, DC 20554, telephone 202-488-5300, fax 202-488-5563, or you may contact BCPI at its Web site: http://www.BCPIWEB.com. When ordering documents from BCPI, please provide the appropriate FCC document number, for example, DA 15-1208.

In the notice, the Bureau seeks comment on the appropriate methodology for determining the protected interference contours for existing 3650-3700 MHz wireless broadband licensees during a fixed transition period. During the transition period existing licensees will receive protection for operations that are within their “Grandfathered Wireless Protection Zone,” provided that: (1) The stations were registered in the Commission's Universal Licensing System (ULS) on or before April 17, 2015; and (2) as of a year later (April 17, 2016) the stations are constructed, in service, and fully compliant with the relevant operating rules.

Specifically, the Bureau seeks comment on a two-pronged approach to defining the Grandfathered Wireless Protection Zone around “grandfathered” base stations. Under this two-part approach, the Grandfathered Wireless Protection Zone around each base station would be defined by: (1) Sectors with a 4.4 km radius from each registered base station, and the azimuth and beamwidth registered for that base station with associated unregistered customer premises equipment (CPE) to encompass the operational area of unregistered subscriber stations; and (2) sectors (centered on each base station with the registered azimuth and beamwidth) which would encompass all registered subscriber stations within that sector. The first prong of the approach will provide protection for unregistered subscribers that operate below the mobile power limit of 1 watt/25 MHz EIRP, which are within the range of a registered base station. Since unregistered CPE operates at low power it is only able to effectively communicate with base stations within a limited range. Considering the relative low power of unregistered CPE compared to the power of a base station, the upstream or “talk-back” path determines the maximum range of a system. Using average values for unregistered CPE transmit power and base station receiver sensitivity specifications from existing type certified equipment, and assuming free space loss along a line of sight path, we calculate that a typical unregistered CPE will have a maximum range of approximately 4.4 km for “talk-back” to a base station. The second prong of the approach will provide protection to each base station's registered CPE. Protected sectors around each base station will be defined based on the distance from the base station to the furthest CPE unit registered in ULS and the base station antenna parameters (e.g., azimuth and beamwidth) registered in ULS and a graphic representation of this methodology is included in an appendix to the Notice. The Bureau proposed that the field strength limit of any Citizens Broadband Radio Service station should be 44 dBuV/m/MHz at the boundary of the Grandfathered Wireless Protection Zone.

The notice seeks comment on how best to implement the protection methodology, including properly collecting and managing data. Much of the relevant data is already stored in the Commission's ULS but ULS does not record three key elements needed to implement the proposed methodology: (1) Information that would distinguish between base station and CPE use; (2) the specific center frequency on which the station operates; and (3) whether a base station has associated unregistered CPE. Therefore, the Bureau proposes to implement a mechanism whereby licensees will certify which of their base stations are constructed, in service, and in full compliance with the rules by April 17, 2016, and provide the three key elements simultaneously. The notice seeks comment on this approach and alternative approaches. This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to that data or arguments in his or her prior comments, memoranda, or other filings (specifying the relevant page and/or paragraph numbers where the data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations and all attachments to those documents must be filed through the electronic comment filing system available for that proceeding, and must be filed in their native format (e.g., .doc, .xml, .ppt, searchable .pdf). Participants in this proceeding should familiarize themselves with the Commission's ex parte rules.

Federal Communications Commission.
Brian Regan,
Chief of Staff, Wireless Telecommunications Bureau.

[FR Doc. 2015-28481 Filed 11-9-15; 8:45 am]

BILLING CODE 6712-01-P